DEPARTMENT OF TRANSPORTATION

Federal Highway Administration

Notice of Final Federal Agency Actions on Proposed Highway in California

AGENCY: Federal Highway Administration (FHWA), DOT.

ACTION: Notice of Limitation on Claims for Judicial Review of Actions by FHWA.

SUMMARY: This notice announces actions taken by the California Department of Transportation (Caltrans) pursuant to its assigned responsibilities under 23 U.S.C. 327 that are final within the meaning of 23 U.S.C. 139(l)(1). The actions relate to a proposed highway project, State Route 91 from post miles 15.6-21.6 in Riverside County, California. Those actions grant licenses, permits, and approvals for the project.

DATES: By this notice, the FHWA is advising the public of final agency actions subject to 23 U.S.C. 139(l)(1). A claim seeking judicial review of the Federal agency actions on the highway project will be barred unless the claim is filed on or before May 19, 2008. If the Federal law that authorizes judicial review of a claim provides a time period of less than 180 days for filing such claim, then that shorter time period still applies.

FOR FURTHER INFORMATION CONTACT: Marie J. Petry, California Department of Transportation District 8, 464 W. 4th Street, San Bernardino, CA 94201-1400, telephone (909) 383-6379, Marie_Petry@dot.ca.gov.

SUPPLEMENTARY INFORMATION: Notice is hereby given that the California Department of Transportation (Caltrans), pursuant to its assigned responsibilities under 23 U.S.C. 327, has taken final agency actions subject to 23 U.S.C. 139(l)(1) by approving the following highway project in the State of California. When completed, the State Route 91 (SR-91) High Occupancy Vehicle (HOV) project will widen existing SR-91 by adding one HOV lane in each direction, adjacent to the median between Adams Street (Kilometer Post [KP] 25.11 [Post Mile {PM 15.6]) and University Avenue (KP 32.93 [PM 20.46]) in the city of Riverside by adding a single HOV lane adjacent to the median in each direction. The westbound HOV lane will begin immediately after the State Route 60/SR-91/ Interstate 215 (SR-60/91/I-215) separation and continue to west of Mary Street. The eastbound HOV lane will connect to the existing HOV lane east of Adams Street, will continue to approximately 1,000 feet west of the SR 60/91/I-215 interchange, and will then merge into the existing mixed-flow lane. The project will include an addition of one eastbound auxiliary lane between Indiana Avenue and Central Avenue and a westbound auxiliary lane between Central Avenue and Arlington Avenue. In addition, the project will reconfigure existing interchanges, replacement of existing over crossings, widening of existing under crossings, and re-striping within existing right-of-way to accommodate the mainline and interchange improvements. Other project improvements include retaining walls, sound walls, landscaping, pavement re-striping, and the modification and extension of various drainage structures to accommodate the widening of SR-91. Project improvements between University Avenue and the SR-60/91/I-215 interchange consist of pavement re-striping only.

The actions by the Federal agencies, and the laws under which such actions were taken, are described in the Final Environmental Assessment (FEA) for the project, approved on August 30, 2007, in the FHWA Finding of No Significant Impact (FONSI) issued on August 30, 2007, and in other documents in the FHWA project records. The FEA, FONSI, and other project records are available by contacting FHWA or the California Department of Transportation, District 8 at the addresses provided above. The FHWA FONSI can be viewed and downloaded from the project Web site at http://district8.dot.ca.gov/projects/index.htm.

This notice applies to all Federal agency decisions as of the issuance date of this notice and all laws under which such actions were taken, including but not limited to:

1. General: National Environmental Policy Act [42 U.S.C. 4321-4351]; Federal-Aid Highway Act [23 U.S.C. 109].

2. Air: Clean Air Act, as amended [42 U.S.C. 7401-7671(q)].

3. Land: Section 4(f) of the Department of Transportation Act of 1966 [49 U.S.C. 303]; Landscaping and Scenic Enhancement (Wildflowers) [23 U.S.C. 319].

4. Wildlife: Endangered Species Act [16 U.S.C. 1531-1544]; Anadromous Fish Conservation Act [16 U.S.C. 757(a)-757(g)]; Fish and Wildlife Coordination Act [16 U.S.C. 661-667(d)]; Magnuson-Stevenson Fishery Conservation and Management Act of 1976, as amended [16 U.S.C. 1801 et seq.].

5. Historic and Cultural Resources: Section 106 of the National Historic Preservation Act of 1966, as amended [16 U.S.C. 470(f) et seq.]; Archaeological Resources Protection Act of 1977 [16 U.S.C. 470(aa)-11]; Archaeological and Historic Preservation Act [16 U.S.C. 469-469(c)]; Native American Grave Protection and Repatriation Act [25 U.S.C. 3001-3013].

6. Social and Economic: Civil Rights Act of 1964 [42 U.S.C. 2000(d)-2000(d)(1)]; American Indian Religious Freedom Act [42 U.S.C. 1996]; Farmland Protection Policy Act [7 U.S.C. 4201-4209]; the Uniform Relocation Assistance and Real Property Acquisition Policies Act of 1970, as amended [42 U.S.C. 61].

7. Wetlands and Water Resources: Clean Water Act, 33 U.S.C. 1251-1377 (Section 404, Section 401, Section 319); Coastal Zone Management Act [16 U.S.C. 1451-1465]; Land and Water Conservation Fund [16 U.S.C. 4601-4604]; Safe Drinking Water Act [42 U.S.C. 300(f)-300(j)(6)]; Rivers and Harbors Act of 1899 [33 U.S.C. 401-406]; TEA-21 Wetlands Mitigation [23 U.S.C. 103(b)(6)(m), 133(b)(11)]; Flood Disaster Protection Act [42 U.S.C. 4001-4128].

8. Hazardous Materials: Comprehensive Environmental Response, Compensation, and Liability Act [42 U.S.C. 9601-9675]; Superfund Amendments and Reauthorization Act of 1986 [PL 99-499]; Resource Conservation and Recovery Act [42 U.S.C. 6901-6992(k)].

9. Executive Orders: E.O. 11990 Protection of Wetlands; E.O. 11988 Floodplain Management; E.O. 12898, Federal Actions to Address Environmental Justice in Minority Populations and Low Income Populations; E.O. 11593 Protection and Enhancement of Cultural Resources; E.O. 13007 Indian Sacred Sites; E.O. 13287 Preserve America; E.O. 13175 Consultation and Coordination with Indian Tribal Governments; E.O. 11514 Protection and Enhancement of Environmental Quality; E.O. 13112 Invasive Species.

(Catalog of Federal Domestic Assistance Program Number 20.205, Highway Planning and Construction. The regulations implementing Executive Order 12372 regarding intergovernmental consultation on Federal programs and activities apply to this program.)

Authority: 23 U.S.C. 139(l)(1).

Issued on: November 9, 2007.
Maiser Khaled,
Director, Project Development & Environment, Sacramento, California.

[FR Doc. E7-22580 Filed 11-16-07; 8:45 am]

BILLING CODE 4910-RY-P